DEPARTMENT OF TRANSPORTATION

Federal Aviation Administration

Flight Path Management Advisory Circular

AGENCY: Federal Aviation Administration (FAA), Department of Transportation (DOT).

ACTION: Notice of availability; request for comments.

SUMMARY: This notice announces the availability of a draft advisory circular on flight path management. The FAA invites public comment on AC 120-FPM.

DATES: The FAA must receive comments on these proposed documents by March 7, 2022.

ADDRESSES: The draft AC 120-FPM can be viewed and comments submitted through the FAA Draft Documents website.

FOR FURTHER INFORMATION CONTACT: Joshua Jackson, Flight Standards, Air Transportation Division, Training and Simulation Group (AFS-280), Joshua.Jackson@faa.gov, (202) 267-8166. Federal Aviation Administration, 800 Independence Avenue SW, Washington, DC 20591.

SUPPLEMENTARY INFORMATION: Loss of control inflight remains one of the leading causes of accidents. One of the factors that contributes to these accidents is a flightcrew's failure to manage the flight path of the aircraft. The vulnerabilities of flightcrew automation management have been studied for more than two decades with major improvements in design, training, and operational use of onboard systems for flight path management. Despite these improvements, there are still vulnerabilities that should be addressed.

Background

The Air Carrier Training Aviation Rulemaking Committee Steering Committee established the Flight Path Management Work Group in 2018 and has since submitted numerous recommendations to the FAA. The FAA developed this advisory circular (AC) based on those recommendations, and it contains guidance and recommended practices for flight path management that can be incorporated into training programs and operational procedures. Flight path management topics addressed in this advisory circular include manual flight operations, managing automated systems, pilot monitoring, and energy management.

Comments Invited

The FAA invites public comments on the AC concerning flight path management. The FAA will consider the public comments submitted during this comment period through the FAA's Draft Documents website in finalizing AC 120-FPM.

Issued in Washington, DC.
Robert C. Carty,
Deputy Executive Director, Flight Standards Service.

[FR Doc. 2022-02180 Filed 2-2-22; 8:45 am]

BILLING CODE 4910-13-P